DEPARTMENT OF VETERANS AFFAIRS

Advisory Committee on Women Veterans; Notice of Meeting

The Department of Veterans Affairs (VA) gives notice under Public Law 92-463 (Federal Advisory Committee Act) that a meeting of the Advisory Committee on Women Veterans will be held on February 9-11, 2010, in Room 230 at VA Central Office, 810 Vermont Avenue, NW., Washington, DC, from 8:30 until 4:30 p.m. each day. The meeting is open to the public.

The purpose of the Committee is to advise the Secretary of Veterans Affairs regarding the needs of women Veterans with respect to health care, rehabilitation, compensation, outreach, and other programs and activities administered by VA designed to meet such needs. The Committee makes recommendations to the Secretary regarding such programs and activities.

The agenda will include an overview of issues related to women Veterans, VA's Women Veterans Health Strategic Health Care Group, updates on recommendations from the Committee's 2008 report, an update on mental health issues, briefings on VA's outreach to women Veterans, an overview of VA's administrations, and a visit to Capitol Hill.

Any member of the public wishing to attend should contact Ms. Shannon L. Middleton at the Department of Veterans Affairs, Center for Women Veterans (00W), 810 Vermont Avenue, NW., Washington, DC 20420, by phone at (202) 461-6193, or fax at (202) 273-7092, or e-mail at 00W@mail.va.gov. Interested persons may attend, appear before, or file statements with the Committee. Written statements must be filed before the meeting, or within 10 days after the meeting.

Dated: January 22, 2010.
By Direction of the Secretary:
Vivian Drake,
Acting Committee Management Officer.

[FR Doc. 2010-1716 Filed 1-27-10; 8:45 am]

BILLING CODE P